DEPARTMENT OF JUSTICE

Office of Justice Programs

[OMB Number 1121-0269]

Agency Information Collection Activities: Revision of a Currently Approved Collection; Comments Requested

ACTION: 30-Day Notice of Information Collection Under Review: Revision of a Currently Approved Collection 2009 Census of Publicly Funded Forensic Crime Laboratories.

The Department of Justice (DOJ), Office of Justice Programs, Bureau of Justice Statistics (BJS) will be submitting the following information collection request to the Office of Management and Budget (OMB) for review and approval in accordance with the Paperwork Reduction Act of 1995. The proposed information collection is published to obtain comments from the public and affected agencies. This proposed information collection was previously published in the Federal Register Volume 75, Number 38, page 8993 on February 26, 2010, allowing for a 60-day comment period.

The purpose of this notice is to allow for an additional 30 days for public comment until June 1, 2010. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-7285.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: 2009 Census of Publicly Funded Forensic Crime Laboratories.

(3) Agency form number, if any, and the applicable component of the Department of Justice sponsoring the collection: The form number is CFCL-1, Bureau of Justice Statistics, Office of Justice Programs, U.S. Department of Justice.

(4) Affected public who will be asked or required to respond, as well as a brief abstract: Respondents will represent Federal, State, and local governments. This information collection is a census of public crime laboratories that perform forensic analyses on criminal evidence. The information will provide statistics on laboratories' capacity to analyze forensic crime evidence, the number, types, and sources of evidence received per year, and the number, types, and cost of analyses completed.

(5) An estimate of the total number of respondents and the amount of time estimated for an average respondent to respond: It is estimated that 405 respondents will complete a 4.1 hour form.

(6) An estimate of the total public burden (in hours) associated with the collection: The total hour burden to complete the data collection is 1,660.5 annual burden hours.

If additional information is required contact: Lynn Bryant, Department Clearance Officer, United States Department of Justice, Information Management and Security Staff, Justice Management Division, Suite 1600, Patrick Henry Building, 601 D Street, NW., Washington, DC 20530.

Dated: April 27, 2010.
Lynn Bryant,
Department Clearance Officer, PRA, United States Department of Justice.

[FR Doc. 2010-10142 Filed 4-29-10; 8:45 am]

BILLING CODE 4410-18-P